DEPARTMENT OF HEALTH AND HUMAN SERVICES

Centers for Disease Control and Prevention

[Docket Number CDC-2018-0033, NIOSH-311]

Draft—National Occupational Research Agenda for Public Safety

AGENCY: National Institute for Occupational Safety and Health (NIOSH) of the Centers for Disease Control and Prevention (CDC), Department of Health and Human Services (HHS).

ACTION: Request for comment.

SUMMARY: The National Institute for Occupational Safety and Health of the Centers for Disease Control and Prevention announces the availability of a draft NORA Agenda entitled National Occupational Research Agenda for Public Safety for public comment. To view the notice and related materials, visit https://www.regulations.gov and enter CDC-2018-0033 in the search field and click “Search.”

DATES: Electronic or written comments must be received by June 11, 2018.

ADDRESSES: You may submit comments, identified by CDC-2018-0033 and docket number NIOSH-311, by any of the following methods:

• Federal eRulemaking Portal: https://www.regulations.gov Follow the instructions for submitting comments.

• Mail: National Institute for Occupational Safety and Health, NIOSH Docket Office, 1090 Tusculum Avenue, MS C-34, Cincinnati, Ohio 45226-1998.

Instructions: All submissions received in response to this notice must include the agency name and docket number [CDC-2018-0033; NIOSH-311]. All relevant comments received will be posted without change to https://www.regulations.gov, including any personal information provided. For access to the docket to read background documents or comments received, go to https://www.regulations.gov. All information received in response to this notice will also be available for public examination and copying at the NIOSH Docket Office, 1150 Tusculum Avenue, Room 155, Cincinnati, OH 45226-1998.

FOR FURTHER INFORMATION CONTACT: Emily Novicki (NORACoordinator@cdc.gov), National Institute for Occupational Safety and Health, Centers for Disease Control and Prevention, Mailstop E-20, 1600 Clifton Road NE, Atlanta, GA 30329, phone (404) 498-2581 (not a toll free number).

SUPPLEMENTARY INFORMATION: The National Occupational Research Agenda (NORA) is a partnership program created to stimulate innovative research and improved workplace practices. The national agenda is developed and implemented through the NORA sector and cross-sector councils. Each council develops and maintains an agenda for its sector or cross-sector.

Background: The National Occupational Research Agenda for Public Safety is intended to identify the research, information, and actions most urgently needed to prevent occupational injuries. The National Occupational Research Agenda for public safety provides a vehicle for stakeholders to describe the most relevant issues, gaps, and safety and health needs for the public safety sector. Each NORA research agenda is meant to guide or promote high priority research efforts on a national level, conducted by various entities, including: government, higher education, and the private sector.

The first National Occupational Research Agenda for Public Safety was published in 2009 for the second decade of NORA (2006-2016). This draft is an updated agenda for the third decade of NORA (2016-2026). The revised agenda was developed considering new information about injuries and illnesses, the state of the science, and the probability that new information and approaches will make a difference. As the steward of the NORA process, NIOSH invites comments on the draft National Occupational Research Agenda for Public Safety. Comments expressing support or with specific recommendations to improve the Agenda are requested. A copy of the draft Agenda is available at https://www.regulations.gov (see Docket Number CDC-2018-0033).

John J. Howard,
Director, National Institute for Occupational Safety and Health, Centers for Disease Control and Prevention.

[FR Doc. 2018-07374 Filed 4-11-18; 8:45 am]

BILLING CODE 4163-19-P